FEDERAL MARITIME COMMISSION

Ocean Transportation Intermediary License Reissuances

Notice is hereby given that the following Ocean Transportation Intermediary licenses have been reissued by the Federal Maritime Commission pursuant to section 19 of the Shipping Act of 1984 (46 U.S.C. Chapter 409), and the regulations of the Commission pertaining to the licensing of Ocean Transportation Intermediaries, 46 CFR part 515.

License No. | Name/address | Date reissued
011335N | Aeronet, Inc., 42 Corporate Park, Suite 150, Irvine, CA 92606 | December 28, 2006.
015247NF | Amerindias, Inc., 5220 NW. 72nd Avenue, Bay 3, Miami, FL 33166 | November 10, 2006.
013692F | Gallagher Transport International, Inc., P.O. Box 39005, Denver, CO 80239 | May 30, 2003.

Sandra L. Kusumoto,
Director, Bureau of Certification and Licensing.

[FR Doc. E7-4106 Filed 3-7-07; 8:45 am]

BILLING CODE 6730-01-P